DEPARTMENT OF ENERGY

Federal Energy Regulatory Commission

[Docket Nos. RP03-13-003 and RP01-236-013]

Transcontinental Gas Pipe Line Corporation; Notice of Compliance Filing

July 3, 2003.

Take notice that on June 30, 2003, Transcontinental Gas Pipe Line Corporation (Transco), tendered for filing as part of its FERC Gas Tariff, Third Revised Volume No. 1, Sixth Revised Sheet No. 374O, Third Revised Sheet No. 374O.00 and First Revised Sheet No. 374O.01, to be effective June 5, 2003.

Transco states that the purpose of this filing is to incorporate certain approved tariff revisions that became effective April 1, 2003, in connection with Transco's implementation of 1Line, into other approved tariff revisions that became effective June 5, 2003 pertaining to Transco's Right of First Refusal tariff provisions. In addition, Transco states that in order to correct an administrative oversight, Transco is proposing to move into effect Seventh Revised Sheet No. 211, which tariff sheet was previously approved effective April 1, 2003 in an order issued September 27, 2001 in Docket Nos. RP01-236, et al.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: July 14, 2003.

Linda Mitry,
Acting Secretary.

[FR Doc. 03-17500 Filed 7-9-03; 8:45 am]

BILLING CODE 6717-01-P